DEPARTMENT OF ENERGY

Federal Energy Regulatory Commission

[Docket No. RP03-379-002]

Dominion Cove Point LNG, LP; Notice of Compliance Filing

October 16, 2003.

Take notice that on October 9, 2003, Dominion Cove Point LNG, LP (Cove Point) tendered for filing as part of its FERC Gas Tariff, Original Volume No. 1, Second Substitute First Revised Sheet No. 279, with an effective date of July 1, 2003.

Cove Point states that the purpose of this filing is to comply with the Commission's Letter Order issued September 29, 2003, in Docket No. RP03-379-001 requiring that Cove Point correct the references and incorporation of North American Energy Standards Board's Wholesale Gas Quadrant (WGQ) standards governing partial day recalls. Cove Point states that it has made the changes requested by the Commission.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-filing link.

Protest Date: October 21, 2003.

Magalie R. Salas.
Secretary.

[FR Doc. E3-00105 Filed 10-23-03; 8:45 am]

BILLING CODE 6717-01-P